DEPARTMENT OF COMMERCE

Submission for OMB Review; Comment Request

The Department of Commerce will submit to the Office of Management and Budget (OMB) for clearance the following proposal for collection of information under the provisions of the Paperwork Reduction Act (44 U.S.C. Chapter 35).

Agency: Bureau of Economic Analysis (BEA).

Title: Institutional Remittances to Foreign Countries.

OMB Control Number: 0608-0002.

Form Number(s): BE-40.

Type of Request: Extension of a currently approved submission.

Burden Hours: 1,265.

Number of Respondents: 125 quarterly respondents and 343 annual respondents.

Average Hours per Response: 1 hour and 30 minutes per response.

Needs and Uses: The data are needed by The Bureau of Economic Analysis (BEA) to estimate the “private remittances” portion of the U.S. International Transactions Accounts (ITAs), which BEA publishes quarterly. The ITAs are used extensively by both government and private organizations for national and international economic policy formulation and for analytical purposes. Without this information, an integral component of the ITAs would be omitted. No other government agency collects comprehensive quarterly/annual data on institutional remittances to foreign countries.

Affected Public: Not-for-profit institutions.

Frequency: Annually/Quarterly.

Respondent's Obligation: Voluntary.

Legal Authority: Bretton Woods Agreement Act, Section 8, and E.O. 10033, as amended.

OMB Desk Officer: Paul Bugg, (202) 395-3093.

Copies of the above information collection proposal can be obtained by writing Jennifer Jessup, Departmental Paperwork Clearance Officer, Department of Commerce, Room 6616, 14th and Constitution Avenue NW., Washington, DC 20230 or via email at JJessup@doc.gov.

Written comments and recommendations for the proposed information collection should be sent within 30 days of publication of this notice to Paul Bugg, OMB Desk Officer, via email at pbugg@omb.eop.gov or by FAX at 202-395-7245.

Dated: November 21, 2013
Glenna Mickelson,
Management Analyst, Office of the Chief Information Officer.

[FR Doc. 2013-28380 Filed 11-26-13; 8:45 am]

BILLING CODE 3510-06-P